DEPARTMENT OF ENERGY

Federal Energy Regulatory Commission

[Docket Nos. CP19-491-000; CP19-494-000]

National Fuel Gas Supply Corporation; Transcontinental Gas Pipe Line Company, LLC; Notice of Availability of the Environmental Assessment for the Proposed Fm100 and Leidy South Projects

The staff of the Federal Energy Regulatory Commission (FERC or Commission) has prepared an environmental assessment (EA) for the FM100 Project and the Leidy South Project (collectively referred to as the Projects), proposed by National Fuel Gas Supply Corporation (National Fuel) and Transcontinental Gas Pipe Line Company, LLC (Transco), respectively, in the above-referenced dockets. National Fuel requests authorization to construct, operate, and maintain new natural gas facilities in McKean and Potter Counties; install new compressor stations in McKean and Clinton Counties; abandon existing pipeline facilities in Cameron, Clearfield, Elk, and Potter Counties; and abandon an existing compressor station in Potter County (all in Pennsylvania), to modernize National Fuel's existing transmission system and provide an additional 330,000 dekatherms per day (Dth/d) of incremental natural gas transportation capacity to Transco. Transco requests authorization to construct, operate, and maintain new natural gas facilities in Clinton and Lycoming Counties; install new compressor stations in Luzerne and Schuylkill Counties; add additional compression at existing compressor stations in Wyoming and Columbia Counties; and abandon an existing pipeline in Clinton County (all in Pennsylvania), to provide 582,400 Dth/d of firm natural gas transportation service from shale producing areas in northern and western Pennsylvania to Transco's industrial, commercial, and residential customers in the eastern United States.

The EA assesses the potential environmental effects of the construction and operation of the Projects in accordance with the requirements of the National Environmental Policy Act of 1969 (NEPA). The FERC staff concludes that approval of the proposed Projects, with appropriate mitigating measures, would not constitute a major federal action significantly affecting the quality of the human environment.

The U.S. Army Corps of Engineers (Baltimore and Pittsburgh Districts) and the U.S. Environmental Protection Agency participated as cooperating agencies in the preparation of the EA. Cooperating agencies have jurisdiction by law or special expertise with respect to resources potentially affected by the proposal and participate in the NEPA analysis.

The Projects would include the following facilities (all located in Pennsylvania):

FM100 Project

• Approximately 29.5 miles of new 20-inch-diameter pipeline in McKean and Potter Counties (Line YM58);

• approximately 1.4 miles of new 24-inch-diameter pipeline loop ¹ in Potter County (Line YM224);

¹ A loop is a segment of pipe that is usually installed adjacent to an existing pipeline and connected to it at both ends. The loop allows more gas to be moved through the system

• approximately 0.4 mile of 12-inch-diameter pipeline extension in McKean County (Line KL Extension);

• a new 15,165-horsepower (hp) compressor station in McKean County (Marvindale Compressor Station);

• a new 22,220-hp compressor station in Clinton County (Tamarack Compressor Station);

• a new producer interconnect station in McKean County (Marvindale Interconnect);

• a new over pressure protection (OPP) station in Potter County (Carpenter Hollow OPP Station);

• modification of the existing Leidy Interconnect LDC 2245 at the Leidy Metering and Regulation Station in Clinton County;

• appurtenant facilities including valves, pig launchers, pig receivers, and anode beds;

• abandonment of approximately 44.9 miles of 12-inch-diameter pipeline and associated appurtenant facilities in Cameron, Clearfield, Elk, and Potter Counties (Line FM100);

• abandonment of a 1,440-hp compressor station and associated facilities in Potter County (Costello Compressor Station); and

• abandonment of aboveground piping and measurement and over pressurization equipment in Potter County (Station WHP-MS-4317X).

Leidy South Project

• Approximately 6.3 miles of new 36-inch-diameter pipeline and associated abandonment by removal of approximately 5.8 miles of existing 23.375-inch-diameter pipeline Leidy Line A in Clinton County (Hensel Replacement);

• approximately 2.4 miles of new 36-inch-diameter pipeline looping in Clinton County (Hilltop Loop);

• approximately 3.5 miles of new 42-inch-diameter pipeline looping in Lycoming County (Benton Loop), including a new 90-foot-tall communication tower;

• uprate of the two existing compressor units to increase total hp from 30,000 hp to 42,000 hp at Compressor Station 605 in Wyoming County;

• uprate of the two existing compressor units to increase total hp from 40,000 hp to 42,000 hp and install a new 31,871-hp compressor unit at Compressor Station 610 in Columbia County;

• a new 46,930-hp compressor station in Luzerne County (Compressor Station 607), including a new 190-foot-tall, free-standing communication tower;

• a new 31,871-hp compressor station in Schuylkill County (Compressor Station 620); and

• appurtenant facilities including valves, pig launchers, and pig receivers.

Additionally, both National Fuel and Transco propose to use temporary access roads and staging areas to support construction activities and would establish new permanent access roads to support operation of the new facilities.

The Commission mailed a copy of the Notice of Availability for the EA to federal, state, and local government representatives and agencies; elected officials; environmental and public interest groups; Native American tribes; potentially affected landowners and other interested individuals and groups; and newspapers and libraries in the area of the Projects. The EA is only available in electronic format. It may be viewed and downloaded from FERC's website (www.ferc.gov), on the Environmental Documents page (http://www.ferc.gov/industries/gas/enviro/eis.asp). In addition, the EA may be accessed by using the eLibrary link on FERC's website. Click on the eLibrary link (https://www.ferc.gov/docs-filing/elibrary.asp), click on General Search, and enter the docket number in the “Docket Number” field, excluding the last three digits (i.e., CP19-491 and/or CP19-494). Be sure you have selected an appropriate date range. For assistance, please contact FERC Online Support at: FercOnlineSupport@ferc.gov or toll free at (866) 208-3676, or for TTY, contact (202) 502-8659.

Any person wishing to comment on the EA may do so. Your comments should focus on the potential environmental effects, reasonable alternatives, and measures to avoid or lessen environmental impacts. The more specific your comments, the more useful they will be. To ensure that the Commission has the opportunity to consider your comments prior to making its decision on the Projects, it is important that the Commission receive your comments on or before 5:00 p.m. Eastern Time on March 9, 2020.

For your convenience, there are three methods you can use to file your comments with the Commission. In all instances, please reference the Project docket numbers (CP19-491-000 and/or CP19-494-000) with your submission. The Commission encourages electronic filing of comments and has expert staff available to assist you at (866) 208-3676 or FercOnlineSupport@ferc.gov.

(1) You can file your comments electronically using the eComment feature located on the Commission's website (www.ferc.gov) under the link to Documents and Filings. This is an easy method for submitting brief, text-only comments on a project;

(2) You can also file your comments electronically using the eFiling feature on the Commission's website (www.ferc.gov) under the link to Documents and Filings. With eFiling, you can provide comments in a variety of formats by attaching them as a file with your submission. New eFiling users must first create an account by clicking on “eRegister.” You must select the type of filing you are making. If you are filing a comment on a particular project, please select “Comment on a Filing” as the filing type; or

(3) You can file a paper copy of your comments by mailing them to the following address. Be sure to reference the Projects' docket numbers (CP19-491-000 and/or CP19-494-000) with your submission: Kimberly D. Bose, Secretary, Federal Energy Regulatory Commission, 888 First Street NE, Room 1A, Washington, DC 20426

Any person seeking to become a party to the proceeding must file a motion to intervene pursuant to Rule 214 of the Commission's Rules of Practice and Procedures (18 CFR 385.214). Motions to intervene are more fully described at https://www.ferc.gov/resources/guides/how-to/intervene.asp. Only intervenors have the right to seek rehearing or judicial review of the Commission's decision. The Commission may grant affected landowners and others with environmental concerns intervenor status upon showing good cause by stating that they have a clear and direct interest in this proceeding which no other party can adequately represent. Simply filing environmental comments will not give you intervenor status, but you do not need intervenor status to have your comments considered.

Additional information about the Projects is available from the Commission's Office of External Affairs, at (866) 208-FERC, or on the FERC website (www.ferc.gov) using the eLibrary link. The eLibrary link also provides access to the texts of formal documents issued by the Commission, such as orders, notices, and rulemakings.

In addition, the Commission offers a free service called eSubscription that allows you to keep track of all formal issuances and submittals in specific dockets. This can reduce the amount of time you spend researching proceedings by automatically providing you with notification of these filings, document summaries, and direct links to the documents. Go to http://www.ferc.gov/docs-filing/esubscription.asp.

Dated: February 7, 2020.
Kimberly D. Bose,
Secretary.

[FR Doc. 2020-02902 Filed 2-12-20; 8:45 am]

BILLING CODE 6717-01-P